DEPARTMENT OF EDUCATION

Privacy Act of 1974; Computer Matching Program between the U.S. Department of Education (ED) and the U.S. Department of Veterans Affairs (VA)

AGENCY: Department of Education.

ACTION: Notice.

SUMMARY: Notice is hereby given of the renewal of the computer matching program between the U.S. Department of Education (ED) (recipient agency) and the U.S. Department of Veterans Affairs (VA) (source agency). After the ED and VA Data Integrity Boards approve a new computer matching agreement (CMA), the computer matching program will begin on the effective date as specified in the CMA and as indicated in paragraph 5 of this notice.

SUPPLEMENTARY INFORMATION: Pursuant to the Privacy Act of 1974, as amended (Privacy Act) (5 U.S.C. 552a), the Office of Management and Budget (OMB) Final Guidance Interpreting the Provisions of Public Law 100-503, the Computer Matching and Privacy Protection Act of 1988, 54 FR 25818 (June 19, 1989), and OMB Circular No. A-130, Appendix I, the following information is provided:

1. Names of Participating Agencies.

The U.S. Department of Education (ED) and the U.S. Department of Veterans Affairs (VA).

2. Purpose of the Match.

The purpose of this matching program between ED and VA is to assist the Secretary of Education with verification of a veteran's status during the review of applications for financial assistance under title IV of the Higher Education Act of 1965, as amended, (HEA).

The Secretary of Education is authorized by the HEA to administer the title IV programs and to enforce the terms and conditions of the HEA.

Section 480(c)(1) of the HEA defines the term “veteran” to mean “any individual who (A) has engaged in the active duty in the United States Army, Navy, Air Force, Marines, or Coast Guard; and (B) was released under a condition other than dishonorable.” (20 U.S.C. 1087vv(c)(1)). Under section 480(d)(1)(D) of the HEA, an applicant who is a veteran (as defined in section 480(c)(1)) is considered an independent student for purposes of title IV, HEA program assistance eligibility, and therefore does not have to provide parental income and asset information to apply for title IV, HEA program assistance. (20 U.S.C. 1087vv(d)(1)(D)).

3. Authority for Conducting the Matching Program.

ED is authorized to participate in the matching program under sections 480(c)(1) and 480(d)(1)(D) of the HEA (20 U.S.C. 1087vv(c)(1) and (d)(1)(D)). VA is authorized to participate in the matching program under 38 U.S.C. 523.

4. Categories of Records and Individuals Covered by the Match.

ED will provide the Social Security number and other identifying information of each applicant for financial assistance under title IV of the HEA who indicates veteran status. This information will be disclosed from the Federal Student Aid Application File system of records (18-11-01), which was most recently published in the Federal Register on August 3, 2011 (74 FR 46774-46781). ED will disclose this information to VA under routine use 14 of the system of records (18-11-01). ED data will be matched against data in the Veterans and Beneficiaries Identification and Records Location Subsystem—VA (38VA21) system of records, under routine use 21, as added to that system of records (38VA21) by a notice published in the Federal Register on June 4, 2001 (66 FR 30049-30050).

5. Effective Dates of the Matching Program.

The matching program will be effective on the latest of the following three dates: (A) December 30, 2013; (B) 30 days from the date ED publishes a Computer Matching Notice in the Federal Register as required by 5 U.S.C. 552a(e)(12); or, (C) 40 days from the date that ED transmits the report of the matching program, as required by 5 U.S.C. 552a(r), to OMB, the U.S. House Committee on Oversight and Government Reform, and the U.S. Senate Committee on Homeland Security and Governmental Affairs, unless OMB waives 10 or fewer days of the 40-day review period for compelling reasons, in which case 30 days plus whatever number of days that OMB did not waive from the date of ED's transmittal of the matching program report.

6. Address for Receipt of Public Comments or Inquiries.

Individuals wishing to comment on this matching program or obtain additional information about the program, including requesting a copy of the CMA between ED and VA, should contact Ms. Marya Dennis, Management and Program Analyst, U.S. Department of Education, Federal Student Aid, Union Center Plaza, 830 First Street NE., Washington, DC 20202. Telephone: (202) 377-3385. If you use a telecommunications device for the deaf (TDD) or a text telephone (TTY), call the Federal Relay Service (FRS), toll free, at 1-800-877-8339.

Accessible Format: Individuals with disabilities can obtain this document in an accessible format (e.g., braille, large print, audiotape, or compact disc) by contacting the person listed in the preceding paragraph.

Electronic Access to This Document: The official version of this document is the document published in the Federal Register. Free Internet access to the official edition of the Federal Register and the Code of Federal Regulations is available via the Federal Digital System at: www.gpo.gov. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically through the advanced search feature at this site, you can limit your search to documents published by the Department.

Dated: November 18, 2013.
James W. Runcie,
Chief Operating Officer, Federal Student Aid.

[FR Doc. 2013-28622 Filed 11-27-13; 8:45 am]

BILLING CODE 4000-01-P